DEPARTMENT OF DEFENSE

Department of the Army, Army Corps of Engineers

Notice of Intent To Prepare a Draft Supplemental Environmental Impact Statement/Subsequent Environmental Impact Report XIV [XIV] for the 2016 American River Watershed Common Features Project, Sacramento, CA

AGENCY: U.S. Army Corps of Engineers, DoD.

ACTION: Notice of intent.

SUMMARY: The U.S. Army Corps of Engineers (USACE) intends to prepare a draft Supplemental Environmental Impact Statement (SEIS)/Subsequent Environmental Impact Report (SEIR) to the 2016 American River Watershed Common Features (ARCF) General Reevaluation Report (GRR), Final Environmental Impact Statement/Environmental Impact Report (FEIS/FEIR). USACE will serve as the lead National Environmental Policy Act (NEPA) agency and the Central Valley Flood Protection Board (CVFPB) will serve as the lead California Environmental Quality Act (CEQA) agency, with support from the California Department of Water Resources (DWR). The construction of cutoff walls and seepage berms to decrease the likelihood of levee failure, and installation of bank armoring to protect levees from erosion, are project actions authorized by WRDA 2016 to reduce flood risk to metropolitan Sacramento. The elements of the project will be organized and discussed in the SEIS in a manner to avoid restating discussions and findings that remain current and accurate in the 2016 ARCF EIS/EIR. This would allow the reader of the ARCF SEIS/SEIR to focus on the document's analysis of impacts of design changes to project features, while the relevant sections of the 2016 ARCF GRR FEIS/FEIR would be referenced where no design changes are planned. Mitigation will be considered as required for any additional impacts addressed in the ARCF SEIS/SEIR.

A description of the current proposed plans for the project is set forth below.

DATES: Written comments regarding the scope of the environmental analysis should be received by November 31, 2022.

ADDRESSES: Written comments and suggestions concerning ARCF Project and requests to be included on the Project mailing list may be submitted to Guy Romine, U.S. Army Corps of Engineers, Sacramento District, Attn: Environmental Analysis Section (CESPK-PDR-A), 1325 J Street, Sacramento, CA 95814.

FOR FURTHER INFORMATION CONTACT: Mr. Guy Romine, telephone at (916) 557-5100, email at ARCF_SEIS@usace.army.mil. Additional information will also be posted on the internet at: www.sacleveeupgrades.com.

SUPPLEMENTARY INFORMATION:

1. Purpose and Need

The Purpose of the ARCF SEIS/SEIR project is to reduce the overall flood risk within the study area. An unacceptably high risk of flooding from levee failure threatens the public safety of the City of Sacramento, as well as property and critical infrastructure throughout the study area. The Sacramento metropolitan area is one of the most at-risk areas for flooding in the United States. There is a high probability that flood flows in the American and Sacramento Rivers will stress the network of levees protecting the system to the point that levees could fail. Previous segments of the authorized project have been or will be constructed as authorized, but there are remaining segments that must still be implemented to reduce flood risk associated with erosion, seepage, and levee stability within the study area.

USACE has determined that the levee system along the Sacramento and American Rivers do not meet the current Federal standards for flood risk reduction due to seepage, slope stability, and erosion. The proposed project is needed to reduce risk of levee failure.

2. Proposed Action

USACE is preparing to draft a SEIS/SEIR to analyze changes made during final preliminary design of multiple contract actions within the ARCF project that could result in potentially significant environmental effects. This supplemental document will centralize where the public and agencies can look for the most current project information and will bring environmental considerations up to date. The SEIS/SEIR will focus on new or different features of project designs that have evolved since the original ARCF GRR FEIS/FEIR was completed, while analyzing the potential environmental impacts of these changes. Accordingly, the Proposed Action for this SEIS/SEIR consists of project features where the final design is sufficiently different from the original design. Environmental impacts are likely to be different than those analyzed in the 2016 FEIS/FEIR, with these project features are outlined below.

Lower American River Design Refinements

Using updated modeling and data, USACE completed a semi-quantitative risk assessment (SQRA), which identified several areas on the Lower American River requiring design refinements that were not specifically addressed in the ARCF GRR FEIS/FEIR. Different erosion protection methods than those discussed in the ARCF GRR FEIS/FEIR are now indicated to provide better onsite mitigation, fisheries habitat, and to decrease impacts to heritage oak trees. Specifically, launchable toe protection and tie backs may be required in many areas. A launchable rock toe and tie backs are placed at the waterside edge of a constructed planting bench, lower on the levee/riverbank, to allow riparian vegetation to grow next to the water's edge. If erosion and scour occur below the launchable toe, the revetment placed in the launchable toe would launch and cover the eroded area, preventing further erosion and providing bank slope stability. Additionally, haul routes and staging areas to implement these erosion control areas will be needed. Erosion protection work may also be implemented around trees in certain areas, to minimize a risk for scour caused by trees.

Lower American River—State Route 160 Bridge Area Design Refinements

The SQRA also determined that the area under the State Route 160 Bridge contributes to flood risk, and will need supplementary measures to properly address this risk. The Proposed Action will require additional bank protection work in this area, including evaluation of staging areas, the addition of haul routes outside the original project footprint, and an extended nighttime work schedule not evaluated in the 2016 ARCF GRR FEIS/FEIR.

Sacramento River Erosion Design Refinements and Construction Requirements

The 2016 ARCF GRR FEIS/FEIR did not analyze staging areas for erosion protection work since it was assumed all work would be done by barge. Land side staging areas and haul routes to the staging areas have been added to the Proposed Action to ensure revised construction needs are met. Erosion protection features are now designed to include more rock than was originally estimated in the 2016 ARCF GRR FEIS/FEIR and will be further considered in the ARCF SEIS/SEIR.

Magpie Creek Area

The Proposed Action would require realignment of the levee and canal at Magpie Creek, increase localized storage and water conveyance, and an increased height of the levee at that site. Night work would be considered in the Proposed Action as a method to reduce daytime noise impacts and reduce the daytime closures of Raley Boulevard. In the Preferred Alternative of the ARCF GRR FEIS/FEIR, Raley Boulevard was presumed to be partially closed with the possibility of the loss of the northern right-hand turn lane, but under the Proposed Action the road would be fully closed during a portion of the construction season.

Mitigation Sites

The Proposed Action includes a comprehensive mitigation proposal to cover all remaining impacts of the ARCF project. The ARCF GRR FEIS/FEIR cited the need for additional mitigation and restoration planning once the designs of the ARCF Project were closer to completion. Project planners have now determined that on-site mitigation commitments set forth in the ARCF GRR FEIS/FEIR will be inadequate if the revised Proposed Action is implemented. The Proposed Action may include purchase of mitigation bank credits, or construction of dedicated mitigation facilities, or both, to meet additional mitigation requirements.

3. Alternatives

The Alternatives to the Proposed Action that may be considered in the SEIS/SEIR include: (1) Construction of mitigation sites and purchase of mitigation bank credits, as well as design refinements and construction requirements discussed above; and (2) the required No Action Alternative. The No Action Alternative would be defined as construction of the ARCF 2016 Project exactly as described in Alternative 2 of the ARCF GRR FEIS/FEIR, (the Preferred Alternative).

4. Scoping Process

a. A public scoping meeting will be held in the form of a teleconference and/or webinar to present an overview of the Proposed Action, its project features, and the ARCF SEIS/SEIR Process. Scoping will afford all interested parties an opportunity to provide comment on the proposed scope of analysis in the draft document and to identify alternatives measures. Comments on scoping, including potential alternatives, pertinent information, studies, and/or analyses, relevant to this Proposed Action may be submitted to the contacts listed below. If any reasonable alternatives are identified during the scoping period, USACE will evaluate those alternatives in the draft SEIS/SEIR, along with a no action alternative. The public scoping meeting is anticipated to be held on 2 November 2022. Exact time, registration details, additional information, and any schedule changes will be announced online at: www.sacleveeupgrades.com.

b. The Proposed Action is anticipated to affect the following resources, which the SEIS/SEIR will fully consider, including visual resources, vegetation and wildlife, fisheries, special status species, cultural resources, air quality, transportation, climate change, recreation, hydrology and water quality, noise, geological resources, environmental justice, and public utilities. Those resources expected to be unaffected by the design changes encompassed by the Proposed Action will not be discussed in the ARCF SEIS/SEIR.

c. USACE will consult with the U.S. Fish and Wildlife Service and the National Marine Fisheries Service (NMFS) to ensure that the Proposed Action complies with the Endangered Species Act and the Fish and Wildlife Coordination Act. The NMFS anticipates receipt of one or more requests for authorization to take incidental to activities related to the project under the Magnuson‐Stevens Fishery Conservation and Management Act (MSA). USACE will also consult with the State Historic Preservation Officer and Native American Tribes to ensure compliance with the National Historic Preservation Act, and with the National Parks Service to seek a Wild and Scenic Rivers Act consistency determination for the Proposed Action. Additional State consultations may be required under CEQA or other California State Regulations. These consultations will be coordinated by CVFPB or DWR.

USACE intends to consult with CRWQCB support its decision on any permits and permissions requested under sections 10 and 14 of the Rivers and Harbors Act, section 401 and 404 of the Clean Water Act.

d. This NOI commences the public scoping process to identify issues and potential alternatives for consideration in the ARCF SEIS/SEIR. Throughout the scoping process, Federal agencies; Tribal, State, and local governments; and the general public have the opportunity to help USACE determine significant resources and issues, impact-producing factors, reasonable alternatives (e.g., size, geographic, seasonal, or other restrictions on construction and siting of facilities and activities), and potential mitigation measures to be analyzed in the SEIS/SEIR, as well as to provide additional information. In the interests of efficiency, completeness, and facilitating public involvement, the SEIS/SEIR will use the NEPA process to fulfill public involvement requirements established in 36 CFR 800.2(d).

USACE anticipates it will hold a virtual public scoping meeting for the SEIS/SEIR on 2 November 2022. Registration details, additional information, and any schedule changes will be announced online at: www.sacleveeupgrades.com.

After completion of the Draft ARCF SEIS/SEIR a 45-day public review period will be provided for interested parties and agencies to review and comment on the draft document. All interested parties are encouraged to respond to this notice and provide a current address if they wish to be notified of the ARCF SEIS/SEIR circulation.

4. Availability

After the draft ESIS/SEIR is completed, USACE will publish a notice of availability (NOA) and request public comments on the draft SEIS/SEIR. USACE expects to issue the NOA in August 2023. After the public comment period ends, the Army will review and respond to comments received and will develop the final SEIS/SEIR. USACE expects to make the final SEIS/SEIR available to the public in May 2024. A ROD will be completed no sooner than 30 days after the final EIS is released, in accordance with 40 CFR 1506.11.

Antoinette R. Gant,
COL (P), EN, Commanding.

[FR Doc. 2022-21870 Filed 10-6-22; 8:45 am]

BILLING CODE 3720-58-P